SECURITIES AND EXCHANGE COMMISSION

[Release No. 34-81177; File No. SR-NYSEArca-2016-177]

Self-Regulatory Organizations; NYSE Arca, Inc.; Notice of Designation of a Longer Period for Commission Action on Proceedings To Determine Whether To Approve or Disapprove a Proposed Rule Change, as Modified by Amendment No. 3, Relating to the Listing and Trading of Shares of the USCF Canadian Crude Oil Index Fund Under NYSE Arca Equities Rule 8.200

July 20, 2017.

On December 30, 2016, NYSE Arca, Inc. (“Exchange”) filed with the Securities and Exchange Commission (“Commission”), pursuant to Section 19(b)(1) of the Securities Exchange Act of 1934 (“Act”) ¹ and Rule 19b-4 thereunder,² a proposed rule change to list and trade shares of the USCF Canadian Crude Oil Index Fund under NYSE Arca Equities Rule 8.200. The proposed rule change was published for comment in the Federal Register on January 23, 2017.³ On March 8, 2017, pursuant to Section 19(b)(2) of the Act,⁴ the Commission designated a longer period within which to approve the proposed rule change, disapprove the proposed rule change, or institute proceedings to determine whether to disapprove the proposed rule change.⁵ On April 19, 2017, the Commission instituted proceedings to determine whether to approve or disapprove the proposed rule change.⁶ On May 8, 2017, the Exchange filed Amendment No. 1 to the proposed rule change.⁷ On June 30, 2017, the Exchange filed Amendment No. 2 to the proposed rule change.⁸ On July 13, 2017, the Exchange filed Amendment No. 3 to the proposed rule change.⁹ The Commission has received no comments on the proposed rule change.

¹ 15 U.S.C. 78s(b)(1).

² 17 CFR 240.19b-4.

³ See Securities Exchange Act Release No. 79793 (January 13, 2017), 82 FR 7885.

⁴ 15 U.S.C. 78s(b)(2).

⁵ See Securities Exchange Act Release No. 80180, 82 FR 13702 (March 14, 2017).

⁶ See Securities Exchange Act Release No. 80486, 82 FR 19115 (April 25, 2017).

⁷ Amendment No. 1, which amended and replaced the proposed rule change in its entirety, is available at: https://www.sec.gov/comments/sr-nysearca-2016-177/nysearca2016177-1742591-151260.pdf.

⁸ Amendment No. 2, which amended and replaced the proposed rule change, as modified by Amendment No. 1, in its entirety, is available at: https://www.sec.gov/comments/sr-nysearca-2016-177/nysearca2016177-1856704-156210.pdf.

⁹ Amendment No. 3, which amended and replaced the proposed rule change, as modified by Amendment No. 2, in its entirety, is available at: https://www.sec.gov/comments/sr-nysearca-2016-177/nysearca2016177-1852899-155351.pdf.

Section 19(b)(2) of the Act ¹⁰ provides that, after initiating disapproval proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. The proposed rule change was published for notice and comment in the Federal Register on January 23, 2017. July 22, 2017 is 180 days from that date, and September 20, 2017 is 240 days from that date.

¹⁰ 15 U.S.C. 78s(b)(2).

The Commission finds it appropriate to designate a longer period within which to issue an order approving or disapproving the proposed rule change so that it has sufficient time to consider this proposed rule change. Accordingly, the Commission, pursuant to Section 19(b)(2) of the Act,¹¹ designates September 20, 2017 as the date by which the Commission shall either approve or disapprove the proposed rule change (File No. SR-NYSEArca-2016-177), as modified by Amendment No. 3.

¹¹ Id.

¹² 17 CFR 200.30-3(a)(57).

For the Commission, by the Division of Trading and Markets, pursuant to delegated authority.¹²
Eduardo A. Aleman,
Assistant Secretary.

[FR Doc. 2017-15632 Filed 7-25-17; 8:45 am]

BILLING CODE 8011-01-P